NEIGHBORHOOD REINVESTMENT CORPORATION

Sunshine Act Meetings

TIME AND DATE: 2:00 p.m., Thursday, December 18, 2025.

PLACE: via ZOOM.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Discussion Item: FY25 External Audit with CliftonLarsonAllen

III. Sunshine Act Approval of Executive (Closed) Session

IV. Executive Session: FY25 External Audit with CliftonLarsonAllen

V. Executive Session: CEO Report

VI. Executive Session: CFO Report

VII. Executive Session: General Counsel Report

VIII. Executive Session: CIO Report

IX. Executive Session: Chief Audit Executive Report

X. Action Item: Approval of Meeting Minutes for June 26 Annual Board Meeting and September 11 Regular Board Meeting

XI. Action Item: Board of Directors Elections

XII. Action Item: Audit Committee Appointments

XIII. Action Item: Capital Corporations—Master Investment Agreement

XIV. Action Item: Internal Audit Report Acceptance

a. Active Directory Management

b. Cyber Attack Incident Response II

c. Network Affiliations

XV. Discussion Item: Change to FY25/26 Internal Audit Plan

XVI. Discussion Item: Lapse in Funding Policy—OMB Requested Edit

XVII. Discussion Item: Management Program Background and Updates

a. 2026 Board Calendar

b. 2026 Board Agenda Planner

c. CFO Report

i. Financials (through 9/30/25)

ii. Single Invoice Approvals $100K and over

iii. Vendor Payments $350K and over

iv. Exceptions

d. FY25-FY27 SP Scorecard—Q4

e. Network Watchlist Report

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2025-22702 Filed 12-10-25; 4:15 pm]

BILLING CODE 7570-01-P